DEPARTMENT OF HOMELAND SECURITY

Office of the Secretary

[Docket No. DHS-2015-0077]

Privacy Act of 1974; Department of Homeland Security U.S. Citizenship and Immigration Services-010 Asylum Information and Pre-Screening System of Records

AGENCY: Department of Homeland Security, Privacy Office.

ACTION: Notice of Privacy Act system of records.

SUMMARY: In accordance with the Privacy Act of 1974, the Department of Homeland Security proposes to update and reissue a current Department of Homeland Security system of records titled, “Department of Homeland Security/U.S. Citizenship and Immigration Services-010 Asylum Information and Pre-Screening System of Records.” This system of records allows the Department of Homeland Security/U.S. Citizenship Immigration Services to collect and maintain records pertaining to asylum applications, credible fear and reasonable fear screening processes, and applications for benefits provided by section 203 of the Nicaraguan Adjustment and Central American Relief Act.

As a result of a biennial review of this system, Department of Homeland Security/U.S. Citizenship and Immigration Services is updating this system of records notice to: (1) Clarify that data originating from this system of records may be stored in a classified network; (2) provide an updated system location; (3) include follow-to-join (derivative) asylum information as a category of records; (4) expand the categories of records for benefit requestors, beneficiaries, derivatives, accredited representatives (including attorneys), form preparers, and interpreters; (5) remove routine use K because it was duplicative; (6) add two new routine uses K and L to permit the sharing of information with the Departments of State and Health and Human Services, respectively; (7) update the retention schedules to include additional systems; (8) add name and date of birth combination and receipt number to retrieve records; and (9) update record source categories to include accredited representatives (including attorneys), interpreters, preparers, and USCIS personnel. Additionally, this notice includes non-substantive changes to simplify the formatting and text of the previously published notice. This updated system will be included in the Department of Homeland Security's inventory of record systems.

DATES: Submit comments on or before December 30, 2015. This updated system will be effective December 30, 2015.

ADDRESSES: You may submit comments, identified by docket number DHS-2015-0077 by one of the following methods:

• Federal e-Rulemaking Portal: http://www.regulations.gov. Follow the instructions for submitting comments.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Karen L. Neuman, (202) 343-1717, Chief Privacy Officer, Privacy Office, Department of Homeland Security, Washington, DC 20528-0655.

SUPPLEMENTARY INFORMATION:

I. Background

In accordance with the Privacy Act of 1974, 5 U.S.C. 552a, the Department of Homeland Security (DHS) U.S. Citizenship and Immigration Services (USCIS) proposes to update and reissue a current DHS system of records titled, “DHS/USCIS-010 Asylum Information and Pre-Screening System of Records.”

As set forth in section 451(b) of the Homeland Security Act of 2002, Congress charged USCIS with the administration of the asylum program, which provides protection to qualified individuals in the United States who have suffered past persecution or have a well-founded fear of future persecution in their country of origin as outlined under Title 8, Code of Federal Regulations (8 CFR) section 208. USCIS is also responsible for adjudicating the benefit program established by Section 203 of the Nicaraguan Adjustment and Central American Relief Act (Pub. L. 105-100, hereinafter “NACARA”), in accordance with 8 CFR part 241, and maintaining and administering the credible fear and reasonable fear screening processes, under 8 CFR 208.30 and 208.31.

Asylum

Every year people come to the United States seeking protection because they have suffered persecution or fear that they will suffer persecution on account of race, religion, nationality, membership in a particular social group, or political opinion. The two ways to obtain asylum in the United States are through the affirmative process and defensive process. To obtain asylum, the individual must be physically present in the United States. An individual may apply for affirmative asylum status regardless of how he or she arrived in the United States or his or her current immigration status. An individual may include his or her spouse and/or unmarried children present in the United States as derivatives on his or her asylum application. A defensive application for asylum occurs when an individual requests asylum as a defense against removal from the United States. In defensive asylum cases, the individual is currently in removal proceedings in immigration court with the Department of Justice's Executive Office for Immigration Review (EOIR). USCIS is responsible for the administration and adjudication of the affirmative asylum process. Individuals granted asylum status possess this status indefinitely, may work in the United States, may request derivative status for immediate family members within two years of the grant of asylum status, and may apply for permanent residence after one year.

Follow-to-Join or Derivative Asylum Status

An individual who entered the United States and was granted asylum status within the past two years may petition to have his or her spouse and/or unmarried children “follow-to-join” him or her in the United Sates and obtain derivative asylum status under 8 CFR 208.21. The derivatives may be in the United States or outside the United States.

Nicaraguan Adjustment and Central American Relief Act (NACARA Section 203)

Section 203 of NACARA applies to certain individuals from Guatemala, El Salvador, and the former Soviet bloc countries (the Soviet Union or any republic of the former Soviet Union, such as Russia, Latvia, Lithuania, Estonia, Albania, Bulgaria, the former Czechoslovakia, the former East Germany, Hungary, Poland, Romania, or Yugoslavia or any state of the former Yugoslavia) who entered the United States and applied for asylum by specified dates or registered for benefits. Section 203 of NACARA allows qualified individuals to apply for suspension of deportation or for special rule cancellation of removal under the standards similar to those in effect before the Illegal Immigration Reform and Immigrant Responsibility Act of 1996. If granted, individuals receive lawful permanent resident status.

Credible Fear Screenings

Section 235 of Immigration and Nationality Act (INA), as amended, and its implementing regulations provide that certain categories of individuals are subject to expedited removal without a hearing before an immigration judge. These include: arriving stowaways; certain arriving aliens at ports of entry who are inadmissible under section 212(a)(6)(C) of the INA (because they have presented fraudulent documents or made a false claim to USCIS or other material misrepresentations to gain admission or other immigration benefits) or 212(a)(7) of the INA (because they lack proper documents to gain admission); and certain designated aliens who have not been admitted or paroled into the United States.

Individuals subject to expedited removal who indicate an intention to apply for asylum, express a fear of persecution or torture, or a fear of return to their home country are referred to USCIS asylum officers to determine whether they have a credible fear of persecution or torture. Individuals found to have a credible fear of persecution or torture may apply for asylum or withholding of removal as a defense to removal before an immigration judge.

Reasonable Fear Screenings

Sections 238(b) and 241(a)(5) of the INA provide for streamlined removal procedures that prohibit certain individuals (i.e., subject to a final administrative removal order under section 238(b) or subject to reinstatement of a prior order of exclusion, deportation, or removal under section 241(a)(5) of the INA) from contesting removability before an immigration judge and from seeking any relief from removal. If an individual ordered removed under either section 238(b) or section 241(a)(5) of the INA expresses a fear of return to the country to which he or she has been ordered removed, the case must be referred to a USCIS asylum officer, who determines whether the individual has a reasonable fear of persecution or torture. Individuals found to have a reasonable fear of persecution or torture may seek withholding or deferral of removal before an immigration judge.

In order to carry out its statutory obligations in administering these benefit programs, USCIS has established the Asylum Information and Pre-Screening System of Records to facilitate every aspect of intake, adjudication, and review of the specified programs. The Asylum Information and Pre-Screening System records are used to track case status, facilitate scheduling appointments, issue notices throughout the process, and generate decision documents. These records are also used to initiate, facilitate, and track security and background check screening, and to prevent the approval of any benefit prior to the review and completion of all security checks. Finally, these records are used by USCIS to generate statistical reports to assist with oversight of production and processing goals.

Information contained in DHS/USCIS-010 Asylum Information and Pre-Screening is afforded the confidentiality protections contained in 8 CFR 208.6, which strictly limits the disclosure of information to third parties. 8 CFR 208.6 specifically covers the confidentiality of asylum applicants and individuals in the credible fear and reasonable fear screening processes. Information may not be disclosed without the written consent of the applicant, except as permitted by 8 CFR 208.6 or at the discretion of the Secretary of Homeland Security or the Attorney General of the United States.

Consistent with DHS's information sharing mission, information stored in the DHS/USCIS-010 Asylum Information and Pre-Screening may be shared with other DHS components that have a need to know the information to carry out their national security, law enforcement, immigration, intelligence, or other homeland security functions. In addition, DHS/USCIS may share information with appropriate federal, state, local, tribal, territorial, foreign, or international government agencies consistent with the confidentiality provisions of 8 CFR 208.6 and with the routine uses set forth in this system of records notice. This updated system will be included in DHS's inventory of record systems.

DHS/USCIS is updating this system of records notice to: (1) Clarify that data originating from this system of records may be stored in a classified network; (2) provide an updated system location; (3) include follow-to-join (derivative) asylum information as a category of records; and (4) expand the categories of records for benefit requestors, beneficiaries, derivatives, accredited representatives (including attorneys), form preparers, and interpreters. The categories of records for benefit requestors, beneficiaries, and derivatives are being updated to include: date of birth; receipt number; Social Security number; foreign residency history; detention center location; phone number; gender; place of marriage; education history; government identification number; notices and communication; records regarding membership or affiliation with organizations; personal background information; description of foreign travel; supporting documentation; and photographs. The category of records for attorneys and accredited representatives include: name; law firm/recognized organization; physical and mailing addresses; phone and fax numbers; email address; attorney bar card number or equivalent; bar membership and accreditation date; Board of Immigration Appeals representative accreditation and expiration date; law practice restriction explanation; and signature. The category of records for preparers and interpreters is being updated to include: name; organization name; business state ID number; physical and mailing addresses; email address; phone and fax numbers; relationship to benefit requestor; and signature.)

DHS/USCIS is also updating this system of records to (1) remove routine use K since it was duplicative of routine use E; (2) add two new routine uses K and L to permit the sharing of information with the Departments of State and Health and Human Services; (3) update the retention schedules to include additional systems; (4) add name and date of birth combination and receipt number to retrieve records; and (5) update record source categories to include accredited representatives (including attorneys), interpreters, preparers, and USCIS personnel.

II. Privacy Act

The Privacy Act embodies fair information practice principles in a statutory framework governing the means by which Federal Government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-010 Asylum Information and Pre-Screening System of Records.

In accordance with 5 U.S.C. 552a(r), DHS has provided a report of this system of records to the Office of Management and Budget and to Congress.

SYSTEM OF RECORDS

Department of Homeland Security (DHS)/U.S. Citizenship and Immigration Services (USCIS)-010

System Name:

DHS/USCIS-010 Asylum Information and Pre-Screening

Security Classification:

Unclassified. The data originating from this system may be retained on classified DHS networks but this does not change the nature and character of the data until it is combined with classified information.

System Location:

The operational information technology (IT) systems that support the Asylum Information Pre-Screening System include: Refugees, Asylum, and Parole System (RAPS), Asylum Pre-Screening System (APSS), Case and Activity Management for International Operations (CAMINO), and the Computer Linked Information Application Management System 3 (CLAIMS 3). Affirmative asylum and cases under section 203 of NACARA cases are processed in RAPS. Reasonable fear and credible fear screenings are processed in APSS. Asylee Relative Petitions are processed in CLAIMS 3 and CAMINO.

Records are maintained in the respective USCIS case management systems and associated electronic and paper files located at USCIS Headquarters in Washington, DC and in USCIS service centers, national records center, asylum offices, and domestic and international field offices. Records are replicated from the operational system and maintained on the DHS unclassified and classified networks.

Categories of Individuals Covered by the System:

Categories of individuals covered by Asylum Information and Pre-Screening System include:

• Individuals covered by provisions of section 208 of the INA, as amended, who have applied with USCIS for asylum on Form I-589 (Application for Asylum and for Withholding of Removal);

• The spouse and children of a principal asylum applicant properly included in an asylum application as beneficiaries;

• Individuals who have applied for suspension of deportation/special rule cancellation of removal under section 203 of NACARA on Form I-881 (Application for Suspension of Deportation or Special Rule Cancellation of Removal (Pursuant to section 203 of Public Law 105-100 (NACARA)));

• Individuals who were referred to a USCIS asylum officer for a credible fear or reasonable fear screening determination under 8 CFR 208, Subpart B, after having expressed a fear of return to the intended country of removal because of fear of persecution or torture, during the expedited removal process under 8 § U.S.C. 1225(b), the administrative removal processes under 8 U.S.C. 1228(b) (removal of certain aliens convicted of aggravated felonies), or 8 U.S.C. 1231(a)(5) (reinstatement of certain prior removal orders);

• Individuals who have petitioned for follow-to-join (derivative) asylum status for their spouse and children on Form I-730 (Refugee/Asylee Relative Petition); and

• Persons who complete asylum, Section 203 of NACARA, or follow-to-join applications, or participate in the credible fear or reasonable fear processes on behalf of the applicant (e.g., attorneys, form preparers, accredited representatives, and interpreters).

Categories of records in the system:

Information about benefit requestor, beneficiaries, and family members includes:

• Name;

• Alias names;

• Dates of birth;

• Alien number (A-number);

• Receipt Number;

• Social Security number (if available);

• Address/residence in the United States;

• Foreign residence history;

• Detention location (if detained by U.S. Immigration and Customs Enforcement);

• Phone number;

• Gender;

• Marital status;

• Place of marriage;

• Date of birth;

• Country of birth;

• Country of nationality (or nationalities);

• Ethnic origin;

• Religion;

• Port(s), date(s) of entry, and status at entry(ies);

• Filing date of asylum, Section 203 of NACARA, or follow-to-join application;

• Education history;

• Work history;

• Results of security checks;

• Languages spoken;

• Claimed basis of eligibility for benefit(s) sought;

• Case status;

• Case history;

• Employment authorization eligibility and application history;

• Government-issued identification (e.g., passport):

○ Document type;

○ Issuing organization;

○ Document number;

○ Expiration date; or

○ Benefit requested.

• Notices and communications, including:

○ Appointment notices;

○ Receipt notices;

○ Requests for evidence;

○ Notices of Intent to Deny (NOID);

○ Decision notices and assessments; or

○ Proofs of benefit.

• Records regarding organization membership or affiliation;

• Personal background information (e.g., arrests/detentions, involvement with national security threats, criminal offenses, persecution, torture, genocide, killing, injuring, forced sexual contact, limiting or denying others religious beliefs, service in military or other armed groups, work in penal or detention systems, weapons distribution, combat training);

• Tax records;

• Explanation/description of foreign travel;

• Signature;

• Supporting documentation as necessary (e.g., birth, marriage, and/or divorce certificates, licenses, explanatory statements, and unsolicited information submitted voluntarily by the applicant or family members in support of a benefit request);

• Photographs; and

• Criminal and national security background check information.

Information about Attorneys, Accredited Representatives, and Form Prepares includes:

• Name;

• Law firm/recognized organization;

• Physical and mailing addresses;

• Phone and fax numbers;

• Email address;

• Attorney bar card number or equivalent;

• Bar membership;

• Accreditation date;

• Board of Immigration Appeals representative accreditation;

• Expiration date;

• Law practice restriction explanation; and

• Signature.

Information about Preparers and Interpreters may include:

• Name;

• Organization;

• Business state ID number;

• Physical and mailing addresses;

• Email address;

• Phone and fax numbers;

• Relationship to benefit requestor; and

• Signature.

Authority for maintenance of the system:

Authority for maintaining this system is in 8 U.S.C. 1101, 1103, 1158, 1225, 1228, and 1522.

Purpose(s):

The purpose of Asylum Information and Pre-Screening System is to manage, control, and track the following types of adjudications:

A. Affirmative asylum applications (Form I-589);

B. Applications filed with USCIS for suspension of deportation/special rule cancellation of removal pursuant to Section 203 of NACARA (Form I-881);

C. Credible fear screening cases under 8 U.S.C. 1225(b)(1)(B);

D. Reasonable fear screening cases under 8 CFR 208.31; and

E. Follow-to-join derivative asylum/refugee cases (Form I-730) under 8 CFR 208.21.

DHS maintains a replica of some or all of the data in the operating system on unclassified and classified DHS networks to allow for analysis and vetting consistent with the above stated purposes and this published notice.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3). Even when a valid routine use permits the disclosure of information from this system of records to a third party, in some cases such disclosure may not be permissible because of confidentiality laws and policies that limit the sharing of information regarding individuals applying for asylum or in credible fear or reasonable fear processes.

Information in this system of records contains information relating to persons who have pending or approved asylum applications, follow-to-join applications, or in the credible fear or reasonable fear process and should not be disclosed pursuant to a routine use unless disclosure is otherwise permissible under 8 CFR 208.6. These confidentiality provisions do not prevent DHS from disclosing information to the U.S. Department of Justice and Offices of the U.S. Attorneys as part of an ongoing criminal or civil investigation. These provisions permit disclosure to courts under certain circumstances as well, as provided under 8 CFR 208.6(c)(2). Subject to these restrictions, DHS may disclose:

A. To the Department of Justice (DOJ), including Offices of the U.S. Attorneys, or other federal agency conducting litigation or in proceedings before any court, adjudicative, or administrative body, when it is relevant or necessary to the litigation and one of the following is a party to the litigation or has an interest in such litigation:

1. DHS or any Component thereof;

2. Any employee or former employee of DHS in his/her official capacity;

3. Any employee or former employee of DHS in his/her individual capacity when DOJ or DHS has agreed to represent the employee; or

4. The United States or any agency thereof.

B. To a congressional office from the record of an individual in response to an inquiry from that congressional office made at the request of the individual to whom the record pertains.

C. To the National Archives and Records Administration (NARA) or General Services Administration pursuant to records management inspections being conducted under the authority of 44 U.S.C. 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations of 8 CFR 208.6 on disclosure as are applicable to DHS officers and employees. 8 CFR 208.6 prohibits the disclosure to third parties information contained in or pertaining to asylum applications, credible fear determinations, and reasonable fear determinations except under certain limited circumstances.

G. To an appropriate federal, state, tribal, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure as limited by the terms and conditions of 8 CFR 208.6 and any waivers issued by the Secretary pursuant to 8 CFR 208.6.

H. To any element of the U.S. Intelligence Community, or any other federal or state agency having a counterterrorism function, provided that the need to examine the information or the request is made in connection with its authorized intelligence or counterterrorism function or functions and the information received will be used for the authorized purpose for which it is requested.

I. To other federal, state, tribal, and local government agencies, foreign governments, intergovernmental organizations and other individuals and organizations as necessary and proper during the course of an investigation, processing of a matter, or during a proceeding within the purview of U.S. or foreign immigration and nationality laws, to elicit or provide information to enable DHS to carry out its lawful functions and mandates, or to enable the lawful functions and mandates of other federal, state, tribal, and local government agencies, foreign governments, or intergovernmental organizations as limited by the terms and conditions of 8 CFR 208.6 and any waivers issued by the Secretary.

J. To a federal, state, tribal, or local government agency or foreign government seeking to verify or ascertain the citizenship or immigration status of any individual within the jurisdiction of the agency for any purpose authorized by law as limited by the terms and conditions of 8 CFR 208.6 and any waivers issued by the Secretary pursuant to 8 CFR 208.6.

K. To the Department of State for the purpose of assisting in the processing of petitions or applications for benefits under the Immigration and Nationality Act, and all other immigration and nationality laws including treaties and reciprocal agreements.

L. To the Department of Health and Human Services (HHS), Office of Refugee Resettlement (ORR) and the Centers for Disease Control and Prevention (CDC) to provide emergency relief to qualified asylees, meet congressional reporting requirements, provide post-decisions services, and generate statistical reports for allocating funding for asylee social benefits.

Disclosure to consumer reporting agencies:

None.

Policies and practices for storing, retrieving, accessing, retaining, and disposing of records in the system:

Storage:

Records in this system are stored electronically in the operational system as well as on the unclassified and classified network or on paper in secure facilities in a locked drawer behind a locked door. The records are stored on magnetic disc, tape, digital media, and CD-ROM. The records may be stored on magnetic disc, tape, and digital media.

Retrievability:

Records may be retrieved by name and date of birth, A-number, or receipt number.

Safeguards:

DHS/USCIS safeguards records in this system according to applicable rules and policies, including all applicable DHS automated systems security and access policies. USCIS has imposed strict controls to minimize the risk of compromising the information that is being stored. Access to the computer system containing the records in this system is limited to those individuals who have a need to know the information for the performance of their official duties and who have appropriate clearances or permissions.

Retention and disposal:

USCIS stores the physical documents and supplemental documentation in the Alien File and processes asylum, NACARA and follow-to-join applications, and credible fear or reasonable fear determinations in the respective case management system. The A-File records are permanent whether hard copy or electronic. USCIS transfers the A-Files to the custody of NARA 100 years after the individual's date of birth.

NARA approved the RAPS [N1-563-04-06], APSS [N1-563-04-07], CAMINO [N1-566-12-06] and CLAIMS 3 [N1-566-08-12] Retention Schedule. RAPS, APSS, and CAMINO Master File automated records are maintained for 25 years after the case is closed and then destroyed. CLAIMS 3 records are destroyed after the data is transferred to the electronic master file and verified. Information in the master file is destroyed 15 years after the last completed action with respect to the benefit. USCIS is proposing to update the CLAIMS 3 Retention Schedule to destroy records 25 years after the last completed action.

Records replicated on the unclassified and classified networks will follow the same retention schedule.

System Manager and address:

The Chief of the Asylum Division, Refugee, Asylum, and International Operations Directorate, U.S. Citizenship and Immigration Services, Suite 3300, 20 Massachusetts Avenue NW., Washington, DC, 20529.

Notification procedure:

Individuals seeking notification of and access to any record contained in this system of records, or seeking to contest its content, may submit a request in writing to the National Records Center (NRC) FOIA/PA Office, P.O. Box 648010, Lee's Summit, MO, 64064-8010. The NRC's contact information can be found at http://www.dhs.gov/foia under “Contacts.” If an individual believes more than one component maintains Privacy Act records concerning him or her, the individual may submit the request to the Chief Privacy Officer and Chief Freedom of Information Act (FOIA) Officer, Department of Homeland Security, Washington, DC 20528-0655.

When seeking records about yourself from this system of records or any other Departmental system of records, your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief Privacy Officer and Chief FOIA Officer, http://www.dhs.gov/foia or 1-866-431-0486. In addition, you should:

• Explain why you believe the Department would have information on you;

• Identify which Component(s) of the Department you believe may have the information about you;

• Specify when you believe the records would have been created; and

• Provide any other information that will help the FOIA staff determine which DHS component agency may have responsive records;

If your request is seeking records pertaining to another living individual, you must include a statement from that individual certifying his/her agreement for you to access his/her records.

Without the above information, the component(s) may not be able to conduct an effective search, and your request may be denied due to lack of specificity or lack of compliance with applicable regulations.

In processing requests for access to information in this system, USCIS will review not only the records in the operational system but also the records that were replicated on the unclassified and classified networks, and based on this notice provide appropriate access to the information.

Record access procedures:

See “Notification procedure” above.

Contesting record procedures:

See “Notification procedure” above.

Record source categories:

Records are obtained from the applicant orhis or her accredited representative, preparer, or interpreter. Information contained in this system may also be supplied by DHS, other U.S. federal, state, tribal, or local government agencies, foreign government agencies, and international organizations. USCIS personnel may input information as they process a case, including information from internal and external sources to verify whether a benefit requestor or family is eligible for the benefit requested. Information from other systems of records (or their successor systems) such as Alien File, Index, and National File Tracking System of Records (DHS/USCIS/ICE/CBP-001, 78 FR 69983, November 22, 2013); USCIS Benefits Information System (BIS) (DHS/USCIS-007, 73 FR 56596, September 29, 2008); ICE Removable Alien Records System (DHS/ICE-011, 75 FR 23274, May 3, 2010); U.S. Customs and Border Protection (CBP) TECS (DHS/CBP-011, 73 FR 77778, December 19, 2008); DHS Automated Biometric Identification System (IDENT) (DHS/USVISIT-004, 72 FR 31080, June 5, 2007); Department of Justice (DOJ) Records and Management Information System (JUSTICE/EOIR-001, 72 FR 3410, January 25, 2007;) Department of Defense (DOD) Defense Biometric Services, 74 FR 48237, (September 22, 2009); DOD Detainee Biometric Information System, 72 FR 14534, (March 28, 2007); and DOD Defense Biometric Identification Records System, 74 FR 17840, (April 17, 2009).

Exemptions claimed for the system:

None.

Dated: November 16, 2015.
Karen L. Neuman,
Chief Privacy Officer, Department of Homeland Security.

[FR Doc. 2015-30270 Filed 11-27-15; 8:45 am]

BILLING CODE 9111-97-P